DEPARTMENT OF LABOR

Employment and Training Administration

[TA-W-35,579; TA-W-35,579A]

Mitchell Energy and Development Corporation Headquartered in Woodlands, TX, Operating Throughout the State of Texas; Mitchell Louisiana Gas Services L.P. and Operating Throughout the State of Louisiana; Notice of Investigation Regarding Termination of Certification of Eligibility To Apply for Worker Adjustment Assistance

Following a Department of Labor investigation under Section 222 of the Trade Act of 1974 and in accordance with Section 223 of the Act, on March 24, 1999, the Department of Labor issued a certification of eligibility to apply for adjustment assistance applicable to workers and former workers of Mitchell Energy and Development Corporation in the State of Texas, TA-W-35,579, and Mitchell Louisiana Gas Services L.P. in the State of Louisiana, TA-W-35,579A. The notice of certification was published in the Federal Register on May 21, 1999 (64 FR 27811).

Pursuant to Section 223(d) of the Act and 29 CFR 90.17(a), the Director of the Division of Trade Adjustment Assistance has instituted an investigation to determine whether the total or partial separations of the certified workers in Texas (TA-W-35,579) and Louisiana (TA-W-35,579A) continued to be attributable to the conditions specified in Section 222 of the Act and 29 CFR 90.16(b) in the Departmental regulations.

Pursuant to 29 CFR 90.17(b) the group of workers or any other persons showing a substantial interest in the proceedings may request a public hearing or may make written submissions to show why the certification should not be terminated, provided that such request or submission is filed in writing with the Director, Division of Trade Adjustment Assistance, at the address shown below no later than March 6, 2000.

The record of certification (TA-W-35,579 and TA-W-35,579A) containing non-confidential information is available for inspection at the Office of the Director, Division of Trade Adjustment Assistance, Employment and Training Administration, U.S. Department of Labor, 200 Constitution Avenue, NW, Room C-4318, Washington, D.C. 20210.

Signed at Washington, D.C. this 9th day of February 2000.
Grant D. Beale,
Program Manager, Division of Trade Adjustment Assistance.

[FR Doc. 00-4514 Filed 2-24-00; 8:45 am]

BILLING CODE 4510-30-M